DEPARTMENT OF THE INTERIOR

Notice of Natural Resource Damage Assessment and Restoration Advisory Committee Meeting

AGENCY: Office of the Secretary, Natural Resource Damage Assessment and Restoration Program Office, Department of the Interior.

ACTION: Notice; FACA Committee Meeting Announcement.

SUMMARY: As required by the Federal Advisory Committee Act, Public Law 92-463, the Department of the Interior, Natural Resource Damage Assessment and Restoration Program Office gives notice of the upcoming meeting of the Department's Natural Resource Damage Assessment and Restoration Advisory Committee. The Advisory Committee will meet in the Rio Grande Room in Building 67 on the Denver Federal Center from 8:30 a.m. to 5 p.m. mountain time on May 1, May 2, and May 3, 2007. Members of the public are invited to attend the Committee Meeting to listen to the committee proceedings and to provide public input. If the Committee reaches closure on the final report, which contains the Committee's recommendations to the Department, the meeting will adjourn early and not be held on subsequent days. If the report is not finalized by the time of adjournment on May 3, the Committee will meet on May 15-17 at the U.S. Fish and Wildlife Service Building in Lakewood, Colorado. Notices will be posted after May 3 on the Department's Web site at http://restoration.doi.gov/faca and in the Federal Register to inform the public if the May 15-May 17 meeting will be cancelled.

Public Input: Any member of the public interested in providing public input at the Committee Meeting should contact Ms. Barbara Schmalz, whose contact information is listed under the FOR FURTHER INFORMATION CONTACT section of this notice. Each individual providing oral input is requested to limit those comments to three minutes. This time frame may be adjusted to accommodate all those who would like to speak. Requests to be added to the public speaker list must be received in writing (letter, e-mail, or fax) by noon mountain time on April 20, 2007. Anyone wishing to submit written comments should provide a copy of those comments to Ms. Schmalz in the following formats: one hard copy with original signature, and one electronic copy via e-mail (acceptable file formats are: Adobe Acrobat, WordPerfect, Word, or Rich Text files) by noon mountain time on April 20, 2007.

Document Availability: In preparation for this meeting of the Advisory Committee, the Committee and the public can find helpful background information at the Restoration Program Web site http://restoration.doi.gov. The site provides a good introduction to the program for those who are relatively new to the damage assessment and restoration arena and a useful reference for seasoned practitioners and policy leaders. Links to the statutory and regulatory framework for the program are found at http://restoration.doi.gov/laws.htm. DOI Program policies are found at http://restoration.doi.gov/policy.htm. Minutes from prior Committee meetings, subcommittee reports and presentations, reference materials, and the draft final Committee report are all available online at http://restoration.doi.gov/faca.

Agenda for Meeting:

The agenda will cover the following principal subjects:

—Formal public input (if any).

—Discussion of draft final committee report.

—Finalizing committee report.

—Develop schedule (if needed) for next Committee meeting.

We estimate that discussion of the draft final Committee report and finalizing the report will take between two and three full days. Timeframes for the discussions will remain flexible. The chair, in consultation with the Designated Federal Officer, will determine appropriate times for breaks and for adjourning each day.

Meeting Access: Individuals requiring special accommodation at this meeting must contact Ms. Barbara Schmalz (see contact information below) by noon mountain time on April 20, 2007, so that appropriate arrangements can be made.

DATES: May 1, 2007, from 8:30 a.m. to 5 p.m. mountain time (open to the public);

May 2, 2007, from 8:30 a.m. to 5 p.m. mountain time (open to the public);

May 3, 2007, (if necessary) from 8:30 a.m. to 5 p.m. mountain time (open to the public);

If necessary, May 15, 2007, from 8:30 a.m. to 5 p.m. mountain time (open to the public);

If necessary, May 16, 2007, from 8:30 a.m. to 5 p.m. mountain time (open to the public);

If necessary, May 17, 2007, from 8:30 a.m. to 5 p.m. mountain time (open to the public).

ADDRESSES: May 1-May 3, 2007. Rio Grande Room, Mezzanine Level, Building 67, Denver Federal Center, 6th Avenue & Kipling, Denver, CO 80225.

May 15-May 17, 2007 (if needed). U.S. Fish and Wildlife Service, 1st floor Conference Room, 134 Union Boulevard, Lakewood, CO 80228.

On May 1-3, all individuals attending the Committee Meeting will need to present photo identification to the entry gate security officers to gain access to the Denver Federal Center. Attendees will need to use the south entrance to Building 67 and present photo identification to the building security officers to gain access to Building 67. If further meetings are needed May 15-17 to finalize the report, attendees will need to call 720-219-8868, from the phone pad at the front entrance of the Fish and Wildlife Service building or from a personal cell phone, to be met and escorted into the building and to the meeting room.

FOR FURTHER INFORMATION CONTACT: Barbara Schmalz, U.S. Department of the Interior, Denver Federal Center, 6th Avenue & Kipling, Building 56 Room 2400 Mail Stop D-110, Denver, CO, 80225-0007; phone 303-445-3883; fax 303-445-3887 or barbara_schmalz@ios.doi.gov.

Dated: April 10, 2007.
Frank M. DeLuise,
Designated Federal Officer, DOI Natural Resource Damage Assessment and Restoration Advisory Committee.

[FR Doc. E7-7104 Filed 4-13-07; 8:45 am]

BILLING CODE 4310-01-P